DEPARTMENT OF COMMERCE

International Trade Administration

[A-580-807]

Polyethylene Terephthalate Film, Sheet, and Strip From the Republic of Korea: Revocation of Antidumping Duty Order

AGENCY: Import Administration, International Trade Administration, Department of Commerce.

SUMMARY: On September 1, 2010, the Department of Commerce (the Department) initiated its third sunset review of the antidumping duty order on polyethylene terephthalate film, sheet, and strip (PET film) from the Republic of Korea. Pursuant to section 751(c) of the Tariff Act of 1930, as amended (the Act), the U.S. International Trade Commission (ITC) determined that revocation of the existing antidumping duty order on polyethylene terephthalate film, sheet, and strip from the Republic of Korea would not be likely to lead to continuation or recurrence of material injury to an industry in the United States within a reasonably foreseeable time. Therefore, pursuant to section 751(d)(2) of the Act, and 19 CFR 351.222(i)(1)(iii), the Department is revoking the antidumping duty order on PET film from the Republic of Korea.

DATES: Effective Date: October 20, 2010.

FOR FURTHER INFORMATION CONTACT: Tyler Weinhold or Robert James, AD/CVD Operations Office 7, Import Administration, International Trade Administration, U.S. Department of Commerce, 14th Street and Constitution Avenue, NW., Washington, DC 20230; telephone: (202) 482-1121 and (202) 482-0649, respectively.

SUPPLEMENTARY INFORMATION:

Background

On June 5, 1991, the Department published the antidumping duty order on PET film from the Republic of Korea. See Antidumping Duty Order and Amendment to Final Determination of Sales at Less Than Fair Value: Polyethylene Terephthalate Film, Sheet, and Strip From the Republic of Korea, 56 FR 25669 (June 5, 1991). On September 1, 2010, the Department initiated its third five-year sunset review of the antidumping duty order on PET film from the Republic of Korea. See Initiation of Five-Year (“Sunset”) Review, 75 FR 53664 (September 1, 2010).

As a result of this sunset review, the Department determined that revocation of the antidumping duty order would be likely to lead to the continuation or recurrence of dumping. See Polyethylene Terephthalate Film, Sheet, and Strip From the Republic of Korea: Final Results of the Expedited Third Five-Year (Sunset) Review of the Antidumping Duty Order, 76 FR 1135 (January 7, 2011). The Department notified the ITC of the magnitude of the margins likely to prevail should the antidumping duty order be revoked.

On September 2, 2011, the ITC published its determination that, pursuant to section 751(c) of the Act, revocation of the antidumping duty order on PET film from the Republic of Korea would not be likely to lead to continuation or recurrence of material injury to an industry in the United States within a reasonably foreseeable time. See Polyethylene Terephthalate (PET) Film From Korea, 76 FR 54791 (September 2, 2011), and USITC Publication 4254 (August 2011), entitled Polyethylene Terephthalate (PET) Film from Korea: Investigation No. 731-TA-459 (Third Review).

Scope of the Order

Imports covered by this order are shipments of all gauges of raw, pretreated, or primed polyethylene terephthalate film, sheet, and strip, whether extruded or coextruded. The films excluded from this review are metalized films and other finished films that have had at least one of their surfaces modified by the application of a performance-enhancing resinous or inorganic layer more than 0.00001 inches (0.254 micrometers) thick.

PET film is currently classifiable under Harmonized Tariff Schedule of the United States (HTSUS) subheading 3920.62.00. The HTSUS subheading is provided for convenience and for customs purposes. The written description remains dispositive as to the scope of the product coverage.

Revocation

As a result of the determination by the ITC that revocation of the antidumping duty order is not likely to lead to the continuation or recurrence of material injury to an industry in the United States, the Department, pursuant to section 751(d) of the Act, is revoking the antidumping duty order on PET film from the Republic of Korea. Pursuant to section 751(d)(2) of the Act and 19 CFR 351.222(i)(2)(i), the effective date of revocation is October 20, 2010 (i.e., the fifth anniversary of the effective date of publication in the Federal Register of the previous continuation notice of this order).¹

¹ See Polyethylene Terephthalate Film from Korea; Continuation of Antidumping Duty Order, 70 FR 61118 (October 20, 2005).

The Department will notify U.S. Customs and Border Protection, 15 days after publication of this notice, to terminate suspension of liquidation and collection of cash deposits on entries of the subject merchandise entered, or withdrawn from warehouse, on or after October 20, 2010. Entries of subject merchandise prior to the effective date of revocation will continue to be subject to suspension of liquidation and antidumping duty deposit requirements. The Department will complete any pending administrative reviews of this order.

This notice also serves as the only reminder to parties subject to administrative protective order (APO) of their responsibility concerning the return/destruction or conversion to judicial protective order of proprietary information disclosed under APO in accordance with 19 CFR 351.305(a)(3). Failure to comply is a violation of the APO which may be subject to sanctions.

This five-year sunset review and notice are in accordance with section 751(d)(2) of the Act and published pursuant to section 777(i)(1) of the Act.

Dated: September 9, 2011.
Ronald K. Lorentzen,
Deputy Assistant Secretary for Import Administration.

[FR Doc. 2011-23825 Filed 9-15-11; 8:45 am]

BILLING CODE 3510-DS-P